DEPARTMENT OF LABOR

Office of the Secretary; Submission for OMB Review; Comment Request

July 10, 2000.

The Department of Labor (DOL) has submitted the following public information collection request (ICR) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 219-5096 ext. 159 or by E-mail to Kurz-Karin@dol.gov). To obtain documentation of ESA, MSHA, OSHA, and VETS contact Darrin King ((202) 219-5096 ext. 151 or by E-mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Reinstatement, with change, of a previously approved collection for which approval has expired.

Agency: Employment and Training Administration.

Title: Job Corps Application Data.

OMB Number: 1205-0025.

Affected Public: Individuals or households; business or other for-profit; not-for-profit institutions; State, Local, or Tribal Government.

Form | Total respondents | Frequency | Total responses | Average time per response | Estimated total burden
ETA 652 | 94,792 | One-time | 94,792 | 25 Min | 39,497
ETA 655 | 91,732 | One-time | 91,732 | 5 Min | 7,644
ETA 682 | 7,768 | On occasion | 7,768 | 5 Min | 640
Totals |  |  |  |  | 47,781

Total annualized capital/startup costs: $2,680,000.

Total annual costs (operating/maintaining systems or purchasing services): $0.

Description: These forms are used to obtain information for screening and enrollment purposes to determine eligibility for the Job Corps Program. They are prepared by the admissions counselor for each applicant and have no further impact on the public.

Ira L. Mills,
Departmental Clearance Office.

[FR Doc. 00-18350 Filed 7-19-00; 8:45 am]

BILLING CODE 4510-30-M